ENVIRONMENTAL PROTECTION AGENCY

[FRL-7505-9; CWA-HQ-2001-6009; EPCRA-HQ-2001-6009; CAA-HQ-2001-6009; RCRA-HQ-2001-6009]

Clean Water Act Class II: Proposed Administrative Settlement, Penalty Assessment and Opportunity To Comment Regarding Gerdau Ameristeel, Inc., d/b/a/ Gerdau Ameristeel, Perth Amboy and Gerdau Ameristeel, Sayerville; Correction

AGENCY: Environmental Protection Agency (EPA).

ACTION: Notice.

SUMMARY: On May 1, 2003, EPA published in the Federal Register information concerning a proposed settlement with Gerdau Ameristeel, Inc., d/b/a Gerdau Ameristeel, Perth Amboy and Gerdau Ameristeel, Sayerville (“Gerdau”). (See 68 FR 23306). The purpose of this correction is to provide the correct docket number for providing comment on the proposed settlement. The correct docket number for submitting comments is EC-2003-013. This correction does not extend the public comment period beyond the date included in the original notice. EPA has entered into a consent agreement with Gerdau to resolve violations of the Clean Water Act (“CWA”), the Clean Air Act (“CAA”), the Resource Conservation and Recovery Act (“RCRA”) and the Emergency Planning and Community Right-to-Know Act (“EPCRA”) and their implementing regulations.

The Administrator is hereby providing public notice of this consent agreement and final order and providing an opportunity for interested persons to comment on the CWA portions, as required by CWA section 311(b)(6)(C), 33 U.S.C. 1321(b)(6)(C).

Gerdau failed to have an adequate Spill Prevention Control and Countermeasure (“SPCC”) plans for two facilities where they stored diesel oil in above ground tanks at its Perth Amboy and Sayerville, New Jersey facilities. EPA, as authorized by CWA section 311(b)(6), 33 U.S.C. 1321(b)(6), has assessed a civil penalty for these violations. Gerdau failed to meet all the requirements of the facility's storm water permit, specifically by performing unauthorized discharges, and a failure to perform training required under the Storm Water Pollution Prevention Plan (SWPPP) provisions of the General Permit at its Sayerville, New Jersey facility. EPA, as authorized by CWA section 309(g), 33 U.S.C. 1319, has assessed a civil penalty for these violations. Gerdau failed to follow the New Source Performance Standards found at 40 CFR part 60 and CAA section 111, 42 U.S.C. 7411 at its Perth Amboy, New Jersey facility. EPA, as authorized by CAA section 113(d)(1), 42 U.S.C. 7413(d)(1), has assessed a civil penalty for these violations. At the Sayerville, New Jersey facility, Gerdau failed to submit an Emergency and Hazardous Chemical Inventory form to the Local Emergency Planning Commission, the State Emergency Response Commission, and the fire department with jurisdiction over each facility in violation of EPCRA section 312, 42 U.S.C. 11022. EPA, as authorized by EPCRA section 325, 42 U.S.C. 11045, has assessed a civil penalty for these violations. Gerdau failed to properly manage and characterize certain hazardous wastes, and failed to include certain notifications on its manifests, in accordance with RCRA and its implementing regulations, specifically 40 CFR parts 262 and 268 at its Perth Amboy, New Jersey facility and failed to amend its contingency plan and to conduct annual hazardous waste training in accordance with RCRA and its implementing regulations, specifically, 40 CFR part 265, and to characterize hazardous waste, specifically 40 CFR part 262, at its Sayerville, New Jersey facility.

DATES: Comments are due on or before June 30, 2003.

ADDRESSES: Send written comments to the Docket Office, Enforcement and Compliance Docket and Information Center (2201T), Docket Number EC-2003-013, U.S. Environmental Protection Agency, EPA West, 1200 Pennsylvania Avenue, NW., Room B133, Washington, DC 20460 (in triplicate if possible.)

Please use a font size no smaller than 12. Comments may also be sent electronically to docket.oeca@epa.gov or faxed to (202) 566-1511. Attach electronic comments as a text file and try to avoid the use of special characters and any forms of encryption. Please be sure to include the Docket Number EC-2002-020 on your document.

In person, deliver comments to U.S. Environmental Protection Agency, EPA West, 1301 Constitution Avenue, NW., Room B133, Washington, DC 20460. Parties interested in reviewing docket information may do so by calling (202) 566-1512 or (202) 566-1513. A reasonable fee may be charged by EPA for copying docket materials.

FOR FURTHER INFORMATION CONTACT: Sanda Howland, Multimedia Enforcement Division (2248-A), U.S. Environmental Protection Agency, 1200 Pennsylvania Avenue, NW., Washington, DC 20460; telephone (202) 564-5022; fax: (202) 564-0010; e-mail: howland.sanda@epa.gov.

SUPPLEMENTARY INFORMATION: Electronic Copies: Electronic copies of this document are available from the EPA Home Page under the link “Laws and Regulations” at the Federal Register—Environmental Documents entry (http://www.epa.gov/fedrgstr).

I. Background

Gerdau is a steel minimill, incorporated in the State of Florida, with its headquarters office located at 5100 West Lemon Street, Suite 312, Tampa, Florida. Gerdau has facilities located at 225 Elm Street, P.O. Box 309, Perth Amboy, New Jersey 08862, and North Crossman Road, Sayreville, New Jersey 08871. Gerdau disclosed, pursuant to the EPA “Incentives for Self-Policing: Discovery, Disclosures, Correction and Prevention of Violations” (“Audit Policy”), 65 FR 19618 (April 11, 2000), that it failed to have all of the necessary elements of an SPCC plan for the Perth Amboy, New Jersey facility, in violation of the CWA section 311(b)(3) and 40 CFR part 112. Gerdau disclosed that for its Perth Amboy, New Jersey facility, that it also had failed to perform monitoring and maintain records in accordance with CAA section 111 and 40 CFR part 60. Gerdau disclosed that its Perth Amboy, New Jersey facility also failed to properly manage and manifest certain hazardous waste in violation of RCRA section 3004 and 3005 and 40 CFR parts 265 and 268. Also, it failed to properly characterize certain solid wastes in accordance with RCRA section 3002 and 40 CFR part 262.

Gerdau also disclosed that at its Sayreville, New Jersey facility it discharged contact water without a permit in accordance with CWA sections 301 and 402 and 40 CFR parts 420 and 433, and failed to have documentation of training in its SPCC plan as required by CWA section 311 and 40 CFR part 112, and in its SWPPP, as required by CWA sections 301 and 402. In addition, Gerdau failed to properly characterize solid waste, in accordance with RCRA section 3002 and 40 CFR part 262, and had deficiencies in the facility's contingency plan in violation of RCRA section 3005 and 40 CFR part 265. Finally, Gerdau's Sayreville, New Jersey failed to identify all chemicals at the facility that exceeded threshold levels for reporting on the facility's Tier II reports. Those chemicals not identified include calcium carbide, calcium silicon, calcium hydroxide (lime), carbon, chromium compounds, diethylene glycol, dolime, dolomite, ethylene glycol, epoxy powder, ferroboron, ferrosilicon, ferrovanadium, graphite, O2 cryogenic liquid, silicon manganese, synthetic lubricating fluid, biocides in violation of EPCRA section 312 , 42 U.S.C. 11022, and 40 CFR part 370.

Pursuant to 40 CFR 22.45(b)(2)(iii), the following is a list of facilities at which Gerdau self-disclosed violations of CWA section 311: 225 Elm Street, P.O. Box 309, Perth Amboy, New Jersey 08862 and North Crossman Road, Sayreville, New Jersey 08871. Gerdau also disclosed a violation of CWA sections 301 and 402 at the Sayreville, New Jersey.

In addition, Gerdau self-disclosed violations of EPCRA section 312 at its facility located in the State of New Jersey.

EPA determined that Gerdau met the criteria set out in the Audit Policy for a 100% waiver of the gravity component of the penalty. As a result, EPA proposes to waive the gravity based penalty ($439,622) and proposes a settlement penalty amount of forty-three thousand, five hundred and sixty-five dollars ($43, 565). This is the amount of the economic benefit gained by Gerdau, attributable to their delayed compliance with the CWA, RCRA, CAA and EPCRA regulations. Gerdau has agreed to pay this amount. EPA and Gerdau negotiated and signed an administrative consent agreement, following the Consolidated Rules of Practice, 40 CFR 22.13(b), on March 11, 2003 (In Re: Gerdau Ameristeel, Inc., d/b/a Gerdau Ameristeel, Perth Amboy and Gerdau Ameristeel, Sayerville, Docket Nos. RCRA-HQ-2001-6009, CWA-HQ-2001-6009, CAA-HQ-2001-6009, EPCRA-HQ-2001-6009). This consent agreement is subject to public notice and comment under CWA sections 309, 33 U.S.C. 311(b)(6), 33 U.S.C. 1321(b)(6).

Under CWA section 311(b)(6)(A), 33 U.S.C. 1321(b)(6)(A), any owner, operator, or person in charge of a vessel, onshore facility, or offshore facility from which oil is discharged in violation of the CWA section 311(b)(3), 33 U.S.C. 1321 (b)(3), or who fails or refuses to comply with any regulations that have been issued under CWA section 311 (j), 33 U.S.C. 1321(j), may be assessed an administrative civil penalty of up to $137,500 by EPA. Class II proceedings under CWA section 311(b)(6) are conducted in accordance with 40 CFR part 22.

Under CWA sections 301 and 402, persons are not allowed to discharge pollutants to waters of the United States without first obtaining a permit. Any person who fails to comply with sections 301 and 402, or who fails or refuses to comply with any regulations or permits that have been issued under CWA sections 301 and 402, may be assessed an administrative civil penalty of up to $137,500 by EPA. Class II proceedings under CWA section 301 and 402 are conducted in accordance with 40 CFR part 22.

Under CAA section 113(d), the Administrator may issue an administrative order assessing a civil penalty against any person who has violated an applicable requirement of the CAA, including any rule, order, waiver, permit or plan. Proceedings under CAA section 113(d) are conducted in accordance with 40 CFR part 22.

Under EPCRA section 325, the Administrator may issue an administrative order assessing a civil penalty against any person who has violated applicable emergency planning or right to know requirements, or any other requirement of EPCRA. Proceedings under EPCRA section 325 are conducted in accordance with 40 CFR part 22.

Under RCRA section 3008, the Administrator may issue an administrative order assessing a civil penalty against any person who has violated RCRA or its implementing regulations. Proceedings under RCRA section 3008 are conducted in accordance with 40 CFR part 22.

The procedures by which the public may comment on a proposed Class II penalty order, or participate in a Clean Water Act Class II penalty proceeding, are set forth in 40 CFR 22.45. The deadline for submitting public comment on this proposed final order is June 30, 2003. All comments will be transferred to the Environmental Appeals Board (“EAB”) of EPA for consideration. The powers and duties of the EAB are outlined in 40 CFR 22.4(a).

Pursuant to CWA section 311(b)(6)(C), EPA will not issue an order in this proceeding prior to the close of the public comment period.

Dated: May 23, 2003.
Robert A. Kaplan,
Acting Director, Multimedia Enforcement Division, Office of Enforcement and Compliance Assurance.

[FR Doc. 03-13567 Filed 5-29-03; 8:45 am]

BILLING CODE 6560-50-P